DEPARTMENT OF HOMELAND SECURITY

Federal Emergency Management Agency

[Docket ID: FEMA-2009-0001]

Agency Information Collection Activities: Submission for OMB Review; Comment Request, 1660-0081; National Flood Insurance Program (NFIP) Mapping Needs Update Support System (MNUSS) Data Worksheet

AGENCY: Federal Emergency Management Agency, DHS.

ACTION: Notice; 30-day notice and request for comments; revision of a currently approved information collection; OMB No. 1660-0081; FEMA Form 146-0 (Replaces FEMA Form 81-108), National Flood Insurance Program—Mapping Needs Update Support System (MNUSS) Data Worksheet.

SUMMARY: The Federal Emergency Management Agency (FEMA) has submitted the information collection abstracted below to the Office of Management and Budget for review and clearance in accordance with the requirements of the Paperwork Reduction Act of 1995. The submission describes the nature of the information collection, the categories of respondents, the estimated burden (i.e., the time, effort and resources used by respondents to respond) and cost, and the actual data collection instruments FEMA will use.

DATES: Comments must be submitted on or before January 28, 2010.

ADDRESSES: Submit written comments on the proposed information collection to the Office of Information and Regulatory Affairs, Office of Management and Budget. Comments should be addressed to the Desk Officer for the Department of Homeland Security, Federal Emergency Management Agency, and sent via electronic mail to oira.submission@omb.eop.gov or faxed to (202) 395-5806.

FOR FURTHER INFORMATION CONTACT: Requests for additional information or copies of the information collection should be made to Director, Office of Records Management, 1800 South Bell Street, Arlington, VA 20598-3005, facsimile number (202) 646-3347, or e-mail address FEMA-Information-Collections@dhs.gov.

SUPPLEMENTARY INFORMATION:

Collection of Information

Title: National Flood Insurance Program (NFIP) Mapping Needs Update Support System (MNUSS) Data Worksheet.

Type of information collection: Revision of a currently approved information collection.

OMB Number: 1660-0081.

Form Titles and Numbers: FEMA Form 146-0 (Replaces FEMA Form 81-108), National Flood Insurance Program—Mapping Needs Update Support System (MNUSS) Data Worksheet.

Abstract: FEMA established the Mapping Needs Assessment process and the MNUSS database in order to effectively identify and document data regarding community flood hazard mapping needs. MNUSS is designed to store mapping needs at the community level. In order to facilitate the identification and collection of communities' current flood hazard mapping needs for input into MNUSS, FEMA developed the MNUSS Data Worksheet. This provides a method to notify FEMA of any revisions or updates required to flood maps. The information is also used to assist in the prioritization of the flood hazard mapping needs of all mapped communities participating in the NFIP.

Affected Public: State, local and Tribal Governments.

Estimated Number of Respondents: 460.

Frequency of Response: Once.

Estimated Average Hour Burden per Respondent: 2.5 Hours.

Estimated Total Annual Burden Hours: 1,150 Hours.

Estimated Cost: $552. The estimated cost for operation or maintenance has changed since the publication of the 60-day Federal Register Notice at 74 FR 46614 (Sept. 10, 2009). The 60-day notice indicated that there was no annual operation and maintenance cost associated with this collection.

Dated: December 4, 2009.
Tammi Hines,
Acting Director, Records Management Division, Office of Management, Federal Emergency Management Agency, Department of Homeland Security.

[FR Doc. E9-30762 Filed 12-28-09; 8:45 am]

BILLING CODE 9111-52-P